GENERAL SERVICES ADMINISTRATION

[Notice-PBS-2025-1; Docket No. 2025-0002; Sequence No.3; UNIQUE IDENTIFIER: SEIS-023-00-009-1727281974]

Notice of Availability for a Draft Supplemental Environmental Impact Statement and Floodplain Assessment and Statement of Findings for the Expansion and Modernization of the Raul Hector Castro Land Port of Entry and Proposed Commercial Land Port of Entry in Douglas, Arizona

AGENCY: Public Buildings Service (PBS), General Services Administration (GSA).

ACTION: Notice of Availability (NOA); announcement of public meeting.

SUMMARY: Pursuant to the requirements of the National Environmental Policy Act of 1969 (NEPA) and the GSA Public Buildings Service NEPA Desk Guide, GSA is issuing this notice to announce the availability of the Draft Supplemental Environmental Impact Statement (DSEIS), which evaluates potential environmental impacts from proposed flood control and utility upgrades in support of the Raul Hector Castro (RHC) Land Port of Entry (LPOE) Expansion and Modernization Project in Douglas, Arizona.

DATES:

Public Comment Period—The Public Comment Period begins with publication of this NOA in the Federal Register and will last for 45 days until Monday, May 19, 2025 (see ADDRESSES section of this NOI on how to submit comments). After the comment period, GSA will prepare the Final SEIS.

Meeting Date—A public meeting will be held on Wednesday, May 7, 2025 from 4:00 p.m. to 6:00 p.m., Mountain Time. The meeting will be held in the Douglas Visitor Center (see ADDRESSES section for location address), where interested parties are invited to join and provide verbal or written comments on the DSEIS and Floodplain Assessment and Statement of Findings. The meeting will be an informal open house, where visitors may come, receive information, and provide written comments. No formal presentation will be provided.

ADDRESSES:

Meeting Location—A public meeting will be held at the Douglas Visitor Center, 345 16th St, Douglas, AZ 85607.

Public Comments—You may submit written comments, identified by Docket No. 2025-0002, by one of the following methods:

• Public Meeting: Attend the public meeting and submit written comments using a form provided by GSA.

• Email: Osmahn.Kadri@gsa.gov. Include Docket No. 2025-0002 in the subject line of the message.

• Mail: Attention: Osmahn Kadri, NEPA Program Manager, U.S. General Services Administration, c/o Potomac-Hudson Engineering, Inc., 77 Upper Rock Circle, Suite 302, Rockville, MD 20850.

FOR FURTHER INFORMATION CONTACT: Osmahn Kadri, 415-522-3617, Osmahn.Kadri@gsa.gov. Please call the number if special assistance is needed to attend and participate in the public meeting.

SUPPLEMENTARY INFORMATION: The DSEIS describes the purpose and need for the project; alternatives considered; the existing environment that could be affected; the potential impacts resulting from each of the alternatives; and proposed best management practices and impact reduction and mitigation measures. The DSEIS also includes the Draft Finding of No Practicable Alternative (FONPA), which provides a floodplain assessment and statement of findings as a result of construction in a floodplain in the project area.

Public Comment Period

The views and comments of the public are necessary in helping GSA in its decision-making process with impacts to environmental and cultural impacts. The meeting will be an informal open house, where visitors may speak with GSA representatives and provide written comments. No formal presentation will be provided. All comments received will be considered equally and will become part of the public record. Further information on the project, including an electronic copy of the DSEIS, may also be found online at the following website: https://www.gsa.gov/about-us/regions/welcome-to-the-pacific-rim-region-9/land-ports-of-entry/raul-hector-castro-land-port-of-entry.

Russell Larson,
Director, Portfolio Management Division, Pacific Rim Region, Public Buildings Service, U.S. General Services Administration.

[FR Doc. 2025-05425 Filed 4-3-25; 8:45 am]

BILLING CODE 6820-YF-P